DEPARTMENT OF ENERGY

Federal Energy Regulatory Commission

[Docket No. EF02-3031, et al.]

United States Department of Energy, et al.; Electric Rate and Corporate Regulation Filings

September 20, 2002.

The following filings have been made with the Commission. The filings are listed in ascending order within each docket classification.

1. United States Department of Energy Western Area Power Administration

[Docket No. EF02-5171-000]

Take notice that on September 12, 2002, the Secretary of the Department of Energy, by Rate Order No. WAPA-99, did confirm and approve on an interim basis, to be effective on October 1, 2002, the Western Area Power Administration's (Western) Rate Schedules SLIP-F7 for firm power from the Salt Lake City Area Integrated Projects (SLCA/IP), SP-PTP6 for firm point-to-point transmission on the Colorado River Storage Project (CRSP), SP-NW2 for network integration transmission service on the CRSP transmission system, SP-NFT5 for non-firm transmission over the same system, and SP-SD2, SP-RS2, SP-EI2, SP-FR2, and SP-SSR2 for ancillary services.

The rates in Rate Schedules SLIP-F7, SP-PTP6, SP-NW2, SP-NFT5, SP-SD2, SP-RS2, SP-EI2, SP-FR2, and SP-SSR2 will be in effect pending the Federal Energy Regulatory Commission's (Commission) approval of these or of substitute rates on a final basis, ending September 30, 2007.

Comment Date: October 11, 2002.

2. ISO New England Inc.; New England Power Pool

[Docket Nos. EL00-62-051; ER98-3853-018]

Take notice that on September 13, 2002, ISO New England Inc. submitted its compliance filing in response to the Commissions September 4, 2002 Order in the above captioned Dockets.

Copies of said filing have been served upon all parties to this proceeding, and upon NEPOOL Participants, and upon all non-Participant entities that are customers under the NEPOOL Open Access Transmission Tariff, as well as upon the utility regulatory agencies of the six New England States.

Comment Date: October 4, 2002.

3. Midwest Independent Transmission System Operator, Inc.

[Docket No. EL02-65-010]

Take notice that on September 17, 2002, Midwest Independent Transmission System Operator, Inc. (Midwest ISO) and PJM Interconnection, L.L.C. (PJM) filed their further compliance filing pursuant to the Commission's July 31, 2002 order issued in the above-referenced proceeding.

Comment Date: October 8, 2002.

4. California Independent System Operator Corporation, Investigation of Wholesale Rates of Public Utility Sellers of Energy and Ancillary Services in the Western Systems Coordinating Council

[Docket Nos. ER02-1656-000, EL01-68-017]

Take notice that on September 16, 2002, the California Independent System Operator Corporation (ISO) submitted, in the above-referenced dockets, an informational letter in compliance with the Commissions July 17, 2002 “Order On the California Comprehensive Market Redesign Proposal,” 100 FERC ¶ 61,060 (2002), informing the Commission that the ISO has retained the services of Potomac Economics, LTD, a privately-held S-corporation incorporated in the State of Virginia, to perform the task of calculating reference prices. The ISO has served copies of this filing upon all entities that are on the official service lists in the above-referenced dockets.

Comment Date: October 4, 2002.

5. Tampa Electric Company

[Docket No. ER02-2552-000]

Take notice that on September 13, 2002, Tampa Electric Company (Tampa Electric) tendered for filing a notice of cancellation of the service agreement with Mirant Americas Energy Marketing, LP (Mirant) for non-firm point-to-point transmission service under Tampa Electric's open access transmission tariff. Tampa Electric proposes that the cancellation be made effective on September 13, 2002.

Copies of the filing have been served on Mirant and the Florida Public Service Commission.

Comment Date: October 4, 2002.

6. Duke Energy Corporation

[Docket No. ER02-2553-000]

Take notice that on September 13, 2002, Duke Energy Corporation, on behalf of Duke Electric Transmission, (collectively, Duke) tendered for filing a Notice of Cancellation of the Service Agreement for Network Integration Transmission Service between Duke and Cincinnati Gas and Electric Company, PSI Energy, Inc., and Cinergy Services, Inc., as agent for and on behalf of Cincinnati Gas and Electric Company, PSI Energy, Inc., and the Commissioners of Public Works of the City of Greenwood, South Carolina. Duke requests an effective date for the Notice of Cancellation of September 14, 2002.

Comment Date: October 4, 2002.

7. Southern California Edison Company

[Docket No. ER02-2554-000]

Take notice that on September 16, 2002, Southern California Edison Company (SCE) tendered for filing revised rate sheets (Revised Sheets) to the Interconnection Facilities Agreement (Interconnection Agreement) between SCE and Pastoria Energy Facility, LLC (PEF), Service Agreement No. 12, under SCE's Transmission Owner Tariff, FERC Electric Tariff, Substitute First Revised Original Volume No. 6 (Tariff). The Revised Sheets include revised and additional work elements, cost estimates and revisions identified by SCE that are needed to interconnect PEF's generating facility to SCE electrical system.

SCE respectfully requests the Revised Sheets become effective on September 17, 2002. Copies of this filing were served upon the Public Utilities Commission of the State of California and PEF.

Comment Date: October 7, 2002.

8. CenterPoint Energy Houston Electric, LLC

[Docket No. ER02-2555-000]

Take notice that on September 16, 2002, CenterPoint Energy Houston Electric, LLC (CenterPoint Houston) tendered for filing a Notice of Succession, along with a revised Transmission Service Tariff for Transmission Service To, From and Over Certain Interconnections, reflecting CenterPoint Houston's exact name. As a result of a change in its name and corporate organization, CenterPoint Houston is succeeding to the FERC Electric Tariff, Fourth Revised Volume No. 1 of Reliant Energy HL&P, effective August 31, 2002.

Comment Date: October 7, 2002.

9. Oswego Harbor Power LLC

[Docket No. ER02-2556-000]

Take notice that on September 16, 2002, Oswego Harbor Power LLC (Oswego) filed under section 205 of the Federal Power Act, Part 35 of the regulations of the Federal Energy Regulatory Commission (Commission), and Commission Order No. 614, a request that the Commission (1) accept for filing a revised market-based rate tariff; (2) waive any obligation to submit a red-lined version of the currently effective tariff; and (3) grant any waivers necessary to make the revised tariff sheets effective as soon as possible, but no later than 60 days from the date of this filing. Oswego's proposed tariff revisions merely seek to properly designate, update and conform the tariff to a format like those that the Commission has approved for Oswego affiliates.

Comment Date: October 7, 2002.

10. Orion Power MidWest, L.P.

[Docket No. ER02-2557-000]

Take notice that on September 16, 2002, Orion Power MidWest, L.P. (Orion) submitted a Notice of Termination pursuant to Section 35.15 of the Commission's Regulations, 18 CFR 35.15 (2002). Orion states that its Ancillary Services Agreement and Capacity Agreement with Duquesne Light Company, accepted for filing in Docket Nos. ER02-2108-000 and ER02-2109-000, respectively, on July 26, 2002, terminated by their own terms at midnight on August 14, 2002.

Comment Date: October 7, 2002.

11. SWEPI LP

[Docket No. ER02-2558-000 (Kalkaska)]

Take notice that on September 17, 2002, SWEPI LP (SWEPI), a limited partnership organized under the laws of Delaware, petitioned the Commission for acceptance of its market-based rate tariff, waiver of certain requirements under Subparts B and C of Part 35 of the Commission's regulations, and the granting of waivers and blanket approvals normally accorded sellers permitted to sell at market-based rates. SWEPI proposes to sell up to 4 MW of power from its generation facility located in Kalkaska, Michigan.

Comment Date: October 8, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-24694 Filed 9-27-02; 8:45 am]

BILLING CODE 6717-01-P